DEPARTMENT OF AGRICULTURE

Forest Service

Plan Revision for Kaibab National Forest; Coconino, Yavapai, and Mojave Counties; AZ

AGENCY: Forest Service, USDA.

ACTION: Notice of Intent to revise the forest plan.

SUMMARY: As directed by the National Forest Management Act (NFMA), the USDA Forest Service is revising the Kaibab National Forest Land Management Plan (forest plan) and will also prepare an environmental impact statement (EIS) for the revised forest plan. This notice briefly describes the nature of the decision to be made, the proposed action and need for change, and information concerning public participation. It also provides estimated dates for filing the EIS and the names and addresses of the responsible agency official and the individuals who can provide additional information. Finally, this notice briefly describes the applicable planning rule and how work done on the plan revision under the 2008 planning rule will be used or modified for completing this plan revision.

The revised Kaibab National Forest Land Management Plan will supersede the forest plan approved by the Regional Forester on April 15, 1988, amended eight times from 1988 to 2009. Two of the eight amendments were site specific, involving the reclassification of suitable timberlands to non-forest lands. The other six amendments were programmatic; two clarified procedures, one incorporated direction for the Regional amendment of Forest plans (goshawk, spotted owl, and old growth), one incorporated direction for wildfire use, one adopted the Recreation Opportunity Spectrum and Scenery Management System for the Tusayan and Williams Ranger Districts, and one incorporated direction for the treatment of noxious and invasive weeds. This amended forest plan will remain in effect until the revised forest plan takes effect.

DATES: Comments concerning the need for change provided in this notice will be most useful in the development of the draft revised plan and draft environmental impact statement if received by June 1, 2010. The agency expects to release a draft revised plan and draft environmental impact statement for formal comment by fall 2010 and a final revised plan and final environmental impact statement by summer 2011.

ADDRESSES: Send written comments to: Kaibab National Forest, Attention: Forest Plan Revision Team, 800 S. 6th St., Williams, Arizona 86046. Comments may also be sent via e-mail to southwestern-kaibab@fs.fed.us or via facsimile to (928) 635-8208, with “Forest Plan Revision” in the subject line.

FOR FURTHER INFORMATION CONTACT: Ariel Leonard, Forest Planner, Kaibab National Forest at (928) 635-8283 or e-mail: aleonard@fs.fed.us. Information on this revision is also available at the Kaibab National Forest revision Web site at http://fs.usda.gov/goto/kaibab/plan_revision or by request. Individuals who use telecommunication devices for the deaf (TDD) may call the Federal Information Relay Service (FIRS) at 800-877-8339 between 8 a.m. and 8 p.m., Eastern Time Monday through Friday.

SUPPLEMENTARY INFORMATION:

Name and Address of the Responsible Official

The responsible official is Corbin Newman, Regional Forester, Southwestern Region, 333 Broadway SE., Albuquerque, NM 87102.

Nature of the Decision To Be Made

The EIS process is meant to inform the Regional Forester so that he can decide which forest plan alternative best meets the need to achieve quality land management under the sustainable multiple-use management concept, meet the diverse needs of people, and conserve the National Forest's resources, as required by the NFMA and the Multiple Use Sustained Yield Act (MUSYA). The new forest plan will describe the strategic intent of managing the Kaibab National Forest into the next 10 to 15 years and will address the need for change described below. The new forest plan will provide management direction in the form of goals (desired conditions), objectives, suitability determinations, standards, guidelines, and a monitoring plan, including the identification of management indicator species (MIS). It may also make new special area recommendations for wilderness, or other special areas.

As important as the decisions to be made is the identification of the types of decisions that will not be made within the revised forest plan. The authorization of project-level activities on the forests is not a decision made in the forest plan but occurs through subsequent project specific decision-making. The designation of routes, trails, and areas for motorized vehicle travel are not considered during plan revision, but are being addressed in concurrent, but separate, environmental assessments for motorized travel management planning on the Williams, Tusayan, and North Kaibab Ranger Districts. Some issues (e.g., hard rock mining on public domain lands), although important, are beyond the authority or control of the Kaibab National Forest and will not be considered. In addition, some issues, such as restoring cottonwood willow riparian forests, may not be undertaken at this time, but addressed later as future forest plan amendments.

Need for Change and Proposed Action

Since the forest plan was approved in 1988, there has been a shift in management emphasis from outputs to outcomes, new scientific information and understanding, and changes in economic, social, and ecological conditions. The Analysis of the Management Situation (AMS) and subsequent management reviews identified four priority needs that will serve to focus the scope of this plan revision. These topics reflect the priority needs for change and potential changes in program direction that will be emphasized in the development of the revised forest plan:

1. Modify stand structure and density of forested ecosystems towards reference conditions and restore historic fire regimes. The multiple ecological, social, and economic benefits of reducing the risk of uncharacteristic fires made this a primary area of focus. The revised Forest Plan will define desired characteristics including: Species composition; structural characteristics such as spacing tree groups and tree density; and disturbance patterns such as frequency, severity, intensity, and size and fire. It will also describe the strategies in the form of objectives, guidelines that will define the “when”, “where”, and “how” to achieve the desired conditions. Objectives will focus on restoration activities such as thinning and burning in high priority areas. Guidelines and standards will serve to provide direction to focus and constrain vegetation management activities.

2. Protect and regenerate aspen. The protection and regeneration of aspen is a priority because of the important role aspen plays in providing local habitat diversity and scenery. Aspen stands are currently in decline throughout most of the southwest. On the Williams Ranger District, most aspen stands are generally unhealthy because they are being overtopped by conifers and there has been little to no recruitment of young trees due to heavy browsing by Rocky Mountain elk. The revised Forest Plan will define desired characteristics for aspen including regeneration, recruitment, structural composition, understory plants, and disturbance processes. Strategies for achieving desired conditions will focus on thinning encroaching conifers, protection from browse, and the reintroduction of fire.

3. Protect natural waters. The Kaibab National Forest is one of the driest Forests in the Nation. With the exception of one perennial stream that is less than 2 miles in length, most of the natural waters are small springs and ephemeral wetlands. The current forest plan offers little guidance for managing these rare and ecologically important resources. Natural waters are centers of high biological diversity, have traditional cultural significance, and are popular recreation destinations. The revised forest plan will provide desired conditions and include strategies to restore and protect natural waters. This work is relatively inexpensive and would provide important ecological and social benefits.

4. Restore grasslands by reducing tree encroachment in grasslands and meadows. Tree encroachment into grasslands has reduced the amount of grasslands significantly over the past 100 years. This reduction has reduced the amount and quality of available habitat for grassland-associated species. The montane/subalpine grasslands on the North Kaibab Ranger District are at a higher risk of loss because they are linear and encroachment occurs more quickly. Desired conditions for grasslands will include desired natural patterns of abundance, composition, and distribution. Strategies will focus on reducing tree density, restoring fire to the ecosystem, and modifying fences that would improve habitat connectivity for pronghorn antelope.

In addition to the priority needs for change topics above, this forest plan revision process will develop consistent, efficient, and scientifically-based plan components to provide direction for: (1) A balanced range of recreation opportunities within the limits of the administrative and resource capacity; (2) management response in the years immediately following large disturbance events; (3) energy corridors and renewable energy development requests; (4) mining exploration and development; (5) special-use management; and (6) special forest products collection. Additionally, the Forest will review the results of the Wilderness Needs Assessment and the eligibility of Kanab Creek Wild and Scenic River. Other needs for change have been and will continue to be identified. These may be addressed in the proposed forest plan, or incorporated in the future as amendments.

Public Involvement

Extensive public involvement and collaboration has already taken place. The Kaibab National Forest has hosted multiple general public meetings in Williams, Tusayan, Flagstaff, Phoenix, Fredonia (all in Arizona) and in Kanab, Utah, as well as focused meetings on ecological sustainability and special areas. There was also a series of facilitated collaborative stakeholder meetings, supported by spatial modeling and analysis that were designed to identify high-priority treatment areas and provide guidance for restoring fire adapted ecosystems. The Kaibab National Forest also hosted five topic-based “collaborwriting” sessions and an on-line discussion forum that focused on drafting desired conditions and guidance for grasslands, springs/wetlands, aspen, mixed conifer forests, and recreation. Consultation and collaboration with American Indian Tribes has been ongoing, with multiple government to government meetings with the Hopi, Navajo, Hualapai, Havasupai, Zuni, and Kaibab-Paiute Tribes. The Kaibab forest plan revision was also a topic at several multitribe and Navajo Chapters meetings.

Based on the collaborative process and other input received to date, a working draft of the Kaibab National Forest Land Management Plan has been prepared and is available at http://fs.usda.gov/goto/kaibab/draft_plan for review and comment. The working draft is meant to provide a foundation for continued collaborative discussion and feedback before the proposed action/preferred alternative has been finalized. The information received in response to this notice of intent will be used to make additions and modifications needed to finalize the proposed forest plan, identify issues and potential alternatives, and guide the analysis of environmental effects.

It is important that reviewers provide their comments at such times and in such a way that they are useful to the Agency's preparation of the revised forest plan and EIS. Therefore, comments on the proposed action and need for change will be most valuable if received by June 1, 2010, and should clearly articulate the reviewer's concerns.

Following the preparation of the draft environmental impact statement (DEIS) and Notice of Availability later this fall, there will be a formal notice and comment period.

The submission of timely and specific comments can affect a reviewer's ability to participate in subsequent administrative or judicial review. At this time, we anticipate using the 2000 planning rule pre-decisional objection process (36 CFR 219.32) for administrative review.

Comments received in response to this solicitation, including the names and addresses of those who comment will be part of the public record. Comments submitted anonymously will be accepted and considered.

Applicable Planning Rule

Preparation of the revised plan was underway when the 2008 National Forest System land management planning rule was enjoined on June 30, 2009, by the United States District Court for the Northern District of California (Citizens for Better Forestry v. United States Department of Agriculture, 632 F. Supp. 2d 968 (N.D. Cal. June 30, 2009)). On December 18, 2009, the Department reinstated the previous planning rule, commonly known as the 2000 planning rule in the Federal Register (Federal Register, Volume 74, No. 242, Friday, December 18, 2009, pages 67059 thru 67075). The transition provisions of the reinstated rule (36 CFR 219.35 and appendices A and B) allow use of the provisions of the National Forest System land and resource management planning rule in effect prior to the effective date of the 2000 Rule (November 9, 2000), commonly called the 1982 planning rule, to amend or revise plans. The Kaibab National Forest has elected to use the provisions of the 1982 planning rule, including the requirement to prepare an EIS, to complete its plan revision.

The Kaibab National Forest Plan revision was initiated with a Notice of Initiation in the Federal Register on April 20, 2009 (Vol. 74, No. 74, pages 17947-17948). Although the 2008 planning rule is no longer in effect, information gathered prior to the court's injunction is useful for completing the plan revision using the provisions of the 1982 planning rule. The Kaibab National Forest has concluded that most of the materials developed for the plan revision process to date are appropriate for continued use in the revision process. The following foundation documents are available at: http://fs.usda.gov/goto/kaibab/plan_rev_docs.

• The Comprehensive Evaluation Report (CER) that was signed April 14, 2010, after substantial public collaboration forms the basis for need to change the existing Forest Plan and the proposed action for the plan revision.

• The CER supplementary document, which supplemented the CER with additional information to conform to the Analysis of Management Situation (AMS) need for change provisions of the 1982 planning rule, dated April 16, 2010.

• The Ecological Sustainability Report (ESR), completed in December 2008, will continue to be used as a reference in the planning process as appropriate to those items in conformance with the 2000 planning rule transition language and 1982 planning rule provisions. It primarily contains scientific information that is not affected by the change of planning rule. This information will be updated with any new available information.

• The Social and Economic Sustainability Report completed in August 2008 is not affected by the change in planning rule and will continue to be used as a reference in the planning process. This information will be updated with new information as it is available.

Additional background reports, assessments, and information will be used, some of which is available on the Kaibab National Forest at: http://fs.usda.gov/goto/kaibab/plan_revision.

As necessary or appropriate, the material listed above will be further adjusted as part of the planning process using the provisions of the 1982 planning rule.

Authority: 16 U.S.C. 1600-1614; 36 CFR 219.35 (74 FR 67073-67074).

Dated: April 16, 2010.
Michael R. Williams,
Forest Supervisor.

[FR Doc. 2010-9425 Filed 4-22-10; 8:45 am]

BILLING CODE 3410-11-P